DEPARTMENT OF ENERGY

Federal Energy Regulatory Commission

[Docket No. RD26-1-000; Docket No. RD26-2-000; Docket No. RD26-3-000]

North American Electric Reliability Corporation; Notice of Staff Attendance at North American Electric Reliability Corporation Industry Webinar

The Federal Energy Regulatory Commission (Commission) hereby gives notice that members of the Commission and/or Commission staff may attend the following webinar:

North American Electric Reliability Corporation: Industry Webinar: Project 2025-04 Order No. 901 Planning Studies, WebEx, February 9, 2026 | 1:00 p.m.-2:00 p.m. Eastern

Further information regarding this meeting and how to join remotely may be found at: https://www.nerc.com/events/02-09-26-industry-webinar-project-2025-04-order-no.-901-planning-studies.

The discussion at the webinar, which is open to the public, may address matters at issue in the following Commission proceedings:

Docket No. RD26-1-000 North American Electric Reliability Corporation

Docket No. RD26-2-000 North American Electric Reliability Corporation

Docket No. RD26-3-000 North American Electric Reliability Corporation

For further information, please contact Neil Yallabandi at (202) 502-8260 or Neil.Yallabandi@ferc.gov.

(Authority: 18 CFR 2.1)

Dated: February 4, 2026.
Carlos D. Clay,
Deputy Secretary.

[FR Doc. 2026-02551 Filed 2-9-26; 8:45 am]

BILLING CODE 6717-01-P